DEPARTMENT OF HEALTH AND HUMAN SERVICES

Administration for Children and Families

Submission for OMB Review; Comment Request

Title: University Centers for Excellence in Developmental Disabilities Education, Research, and Service.

OMB No.: New collection.

Description: In accordance with the Developmental Disabilities Assistance and Bill of Rights Act of 2000, University Centers for Excellence in Developmental Disabilities Education, Research, and Service (UCEDDs) are required to collect data in order to measure progress achieved for each of their four core functions (pre-service preparation and continuing education, community services—training and technical assistance, research, and information dissemination) in one or more areas of emphasis (child care, education and early education, employment, health, housing, recreation, transportation, quality assurance) through advocacy, capacity building, and systemic change activities. Progress is to be measured through measures of improvement, consumer satisfaction, and collaboration.

Respondents: University Centers for Excellence in Developmental Disabilities Education, Research, and Service.

Annual Burden Estimates
Instrument | Number of respondents | Number of responses per respondent | Average burden hours per response | Total burden hours
Data Collection for Annual Report—University Centers | 61 | 1 | 200 | 12,200

Estimated Total Annual Burden Hours: 12,200.

Additional Information: Copies of the proposed collection may be obtained by writing to the Administration for Children and Families, Office of Administration, Office of Information Services, 370 L'Enfant Promenade, SW., Washington, DC 20447, Attn: ACF Reports Clearance Officer. E-mail address: grjohnson@acf.hhs.gov. All requests be identified by the title of the information collection.

OMB Comment: OMB is required to make a decision concerning the collection of information between 30 and 60 days of after publication of this document in the Federal Register. Therefore, a comment is best assured of having its full effect if OMB received it within 30 days of publication. Written comments and recommendations for the proposed information collection should be sent directly to the following: Office of Management and Budget, Paperwork Reduction Project, Attn: Desk Officer for ACF, E-mail address: Katherine_T._Astrich@omb.eop.gov.

Dated: March 14, 2005.
Robert Sargis,
Reports Clearance Officer.

[FR Doc. 05-5477 Filed 3-18-05; 8:45 am]

BILLING CODE 4184-01-M